DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on (301)-443-1129.

The following request has been submitted to the Office of Management and Budget for review under the Paperwork Reduction Act of 1995:

Proposed Project: The Health Center Program Application Forms: (OMB No. 0915-0285 Extension)

Health centers receiving grant funding under Section 330 of the Public Health Service (PHS) Act are a major component of America's health care safety net, the Nation's “system” of providing primary health care to underserved communities and vulnerable populations. Health centers care for people regardless of their ability to pay and whether or not they have health insurance. They provide primary health care, as well as services such as transportation and translation. Many health centers also offer dental, mental heath, and substance abuse care. Grants to health centers are administered by HRSA's Bureau of Primary Health Care (BPHC). In an effort to encourage the creation of new health centers and sites as well as improve and strengthen existing sites, HRSA periodically issues new grant opportunities.

HRSA uses the following application forms to administer and manage the Federal Qualified Health Center. These application forms are used by new and existing FQHC's to apply for grant and non-grant opportunities, re-new their grant or non-grant opportunities or change their scope of project.

Estimates of annualized reporting burden are as follows:

Type of application form | Number of respondents | Responses per respondent | Total responses | Hours per response | Total burden hours
General Information Worksheet | 1,021 | 1 | 1,021 | 3.0 | 3,063
P12 Planning General Information Worksheet | 300 | 1 | 300 | 12.0 | 3,600
BPHC Funding Request Summary | 1,021 | 1 | 1,021 | 0.5 | 510.5
Proposed Staff Profile | 1,021 | 1 | 1,021 | 6.0 | 6,126
Income Analysis Form | 1,021 | 1 | 1,021 | 15.0 | 15,315
Community Characteristics | 1,021 | 1 | 1,021 | 12.0 | 12,252
Services Provided | 1,021 | 1 | 1,021 | 0.5 | 510.5
Sites Listing | 1,021 | 1 | 1,021 | 1.0 | 1,021
Other Site Activities | 700 | 1 | 700 | 0.5 | 350
Board Member Characteristics | 1,021 | 1 | 1,021 | 1.0 | 1,021
Request for Waiver of Governance Requirements | 150 | 1 | 150 | 1.0 | 150
Compliance Matrix | 1,021 | 1 | 1,021 | .5 | 510.5
Health Center Affiliation Certification | 250 | 1 | 250 | .5 | 125
Health Center Affiliation Checklist | 1,021 | 1 | 1,021 | .5 | 510.5
Need for Assistance | 900 | 1 | 900 | 6.0 | 5,400
Emergency Preparedness Form | 1,021 | 1 | 1,021 | 1.0 | 1,021
FTCA Form | 800 | 1 | 800 | 1.0 | 800
Points of Contact | 800 | 1 | 800 | .5 | 400
Total | 1,021 |  | 15,131 |  | 52,686

Written comments and recommendations concerning the proposed information collection should be sent within 30 days of this notice to: Karen Matsuoka, Human Resources and Housing Branch, Office of Management and Budget, New Executive Office Building, Room 10235, Washington, DC 20503.

Dated: June 5, 2007.
Caroline Lewis,
Associate Administrator for Management.

[FR Doc. E7-11219 Filed 6-8-07; 8:45 am]

BILLING CODE 4165-15-P